DEPARTMENT OF TRANSPORTATION

Federal Aviation Administration

Fifty First RTCA SC-206 Aeronautical Information and Meteorological Data Link Services (AIS) Plenary

AGENCY: Federal Aviation Administration (FAA), U.S. Department of Transportation (DOT).

ACTION: Fifty First RTCA SC-206 Aeronautical Information and Meteorological Data Link Services (AIS) Plenary.

SUMMARY: The FAA is issuing this notice to advise the public of a meeting of Fifty First RTCA SC-206 Aeronautical Information and Meteorological Data Link Services (AIS) Plenary.

DATES: The meeting will be held June 11-15, 2018 8:30 a.m.-5:00 p.m.

ADDRESSES: The meeting will be held at: AOPA HQ, 411 Aviation Way, Frederick, MD 21701.

FOR FURTHER INFORMATION CONTACT: Karan Hofmann at khofmann@rtca.org or 202-330-0680, or The RTCA Secretariat, 1150 18th Street NW, Suite 910, Washington, DC, 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Fifty First RTCA SC-206 Aeronautical Information and Meteorological Data Link Services (AIS) Plenary. The agenda will include the following:

11 June: Monday

1:00 p.m.-2:00 p.m.

Opening Plenary

1. Opening Remarks: DFO, RTCA, Chairman, And Host

2. Attendees' Introductions

3. Discussion On Results From Meeting With WG-76

2:00 p.m.-5:00 p.m.

Sub-Group Meetings

12 June: Tuesday

08:30 a.m.-5:00 p.m.

Sub-Group Meetings

13 June: Wednesday

08:30 a.m.-5:00 p.m.

Sub-Group Meetings

14 June: Thursday

08:30 a.m.-12:00 p.m.

Closing Plenary

1. Opening Remarks: DFO, RTCA, Chairman, And Host

2. Attendees' Introductions

3. Review and Approval Of Meeting Agenda

4. Approval of Previous Meeting Minutes (Melbourne, FL)

5. Sub-Groups Reports

a. SG1: CSC And Other SC Coordination (ISRAs)

b. SG5: FIS-B MOPS

6. Industry Coordination

a. CDM

7. Decision on Tor Changes/Rejoining WG-76

8. Future Meetings Plans and Dates

9. Action Item Review

10. Other Business

11. Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 12, 2018.
Michelle Swearingen,
Systems and Equipment Standards Branch, AIR-6B0, Policy and Innovation Division, AIR-600, Federal Aviation Administration.

[FR Doc. 2018-09967 Filed 5-9-18; 8:45 am]

BILLING CODE 4910-13-P